DEPARTMENT OF AGRICULTURE

Federal Crop Insurance Corporation

7 CFR Parts 457

[Docket ID FCIC-21-0004]

RIN 0563-AC72

Common Crop Insurance Regulations; Dry Pea Crop Insurance Provisions and Dry Beans Crop Insurance Provisions

AGENCY: Federal Crop Insurance Corporation, U.S. Department of Agriculture (USDA).

ACTION: Correcting amendment.

SUMMARY: On June 24, 2021, the Federal Crop Insurance Corporation revised the Common Crop Insurance Regulations; Dry Pea and Dry Beans Crop Insurance Provisions. That final rule inadvertently omitted the term “you” in the Dry Beans Crop Insurance Provisions and is being added in this correction.

DATES: Effective date: August 17, 2021.

FOR FURTHER INFORMATION CONTACT: Francie Tolle; telephone (816) 926-7730; email francie.tolle@usda.gov. Persons with disabilities who require alternative means of communication should contact the USDA Target Center at (202) 720-2600 or 844-433-2774.

SUPPLEMENTARY INFORMATION:

Background

This correction is being published to correct section 2, paragraph (b)(3)(i)(A) of the Dry Beans Crop Insurance Provisions published June 24, 2021 (86 FR 33081-33085). The term “you” was inadvertently omitted and is being added in this correction.

List of Subjects in 7 CFR Part 457

Acreage allotments, Crop insurance, Reporting and recordkeeping requirements.

Accordingly, 7 CFR part 457 is corrected by making the following amendment:

PART 457—COMMON CROP INSURANCE REGULATIONS

1. The authority citation for part 457 continues to read as follows:

Authority: 7 U.S.C. 1506(l) and 1506(o).

§ 457.150 [Amended]

2. In § 457.150, section 2, in paragraph (b)(3)(i)(A), add the word “you” after the phrase “All types in which”.

Richard Flournoy,
Acting Manager, Federal Crop Insurance Corporation.

[FR Doc. 2021-17300 Filed 8-16-21; 8:45 am]

BILLING CODE 3410-08-P